GENERAL SERVICES ADMINISTRATION

[Notice-FTR 2014-02; Docket No. 2014-0004; Sequence 3; GSA Bulletin FTR 14-05]

Rental Car (Passenger Vehicle) Requirements

AGENCY: Office of Government-wide Policy, General Services Administration (GSA).

ACTION: Notice of Federal Travel Regulation (FTR) Bulletin 14-05, Calendar Year (CY) 2014 Rental Car (Passenger Vehicle) Requirements.

SUMMARY: Federal agencies are committed to identifying potential savings in employee rental of passenger vehicles. This notice announces FTR Bulletin 14-05 which emphasizes the requirements for federal employee rental of passenger vehicles while on official government travel. FTR Bulletin 14-05 and all other FTR bulletins are located at gsa.gov/ftrbulletins.

DATES: This notice is effective February 12, 2014.

ADDRESSES: General Services Administration, 1800 F Street NW., Washington, DC 20405.

FOR FURTHER INFORMATION CONTACT: Ms. Marcerto Barr, Office of Government-wide Policy, Office of Asset and Transportation Management, at 202-208-7654, or by email at travelpolicy@gsa.gov. Please cite Notice of FTR Bulletin 14-05.

SUPPLEMENTARY INFORMATION: FTR Bulletin 14-05 encourages agencies to ensure their internal travel policies are consistent with the FTR requirements that all rental passenger vehicles must be authorized only when in the best interest of the Government (FTR 301-10.450(a)). Use of a rental car requires specific authorization (FTR 301-2.5(g)). FTR Bulletin 14-05 also ensures travelers are familiar with the Defense Travel Management Office (DTMO) U.S. Rental Car Agreement, which encourages travelers to rent vehicles from vendors that participate in the program. Refer to: (http://www.defensetravel.dod.mil/site/rental.cfm). FTR Bulletin 14-05 ensures travelers to book their passenger vehicle reservations through their agency's Electronic Travel System (ETS) where available. When ETS is not available, travelers should arrange passenger vehicle rentals only through their agency's Travel Management Center (TMC). Use of an agency's ETS and TMC are the only two approved methods of booking passenger rental vehicles allowed by the FTR (FTR 301-50.3). Agencies should also educate their travelers to decline additional insurance, such as collision damage waiver (CDW) or theft insurance (FTR 301-10.451(a)). These types of insurance are personal expenses, so travelers generally may not be reimbursed for them.

Dated: February 4, 2014.
Carolyn Austin-Diggs,
Acting Deputy Associate Administrator, Office of Asset and Transportation Management, Office of Government-wide Policy.

[FR Doc. 2014-02981 Filed 2-11-14; 8:45 am]

BILLING CODE 6820-14-P